DEPARTMENT OF HEALTH AND HUMAN SERVICES

Centers for Disease Control and Prevention

[60Day-22-22IJ; Docket No. CDC-2022-0104]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Evaluation of Safe Spaces in CDC-directly funded Community-based Organizations (CBOs). This project is designed to collect data from persons attending safe spaces, CBO staff perceptions of safe spaces, and descriptions of those spaces selected from 10 CBOs funded through Comprehensive High-Impact HIV Prevention Programs for young men of Color who have sex with men and young transgender persons of Color.

DATES: CDC must receive written comments on or before October 31, 2022.

ADDRESSES: You may submit comments, identified by Docket No. CDC-2022-0104 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Evaluation of Safe Spaces in CDC-directly funded Community-based Organizations (CBOs)—New—National Centers for HIV, Viral Hepatitis, STD, and TB Prevention (NCHHSTP), Centers for Disease Control and Prevention (CDC).

Background and Brief Description

The CDC-funded HIV prevention program for young men of Color who have sex with men (YMSM) and young transgender persons (YTG) of Color employs an innovative strategy to address the social determinants of health (e.g., housing, employment) that contribute to health inequities and impact HIV outcomes: safe spaces. Safe spaces are culturally, linguistically, and age-appropriate physical spaces for engaging people who are at increased risk for HIV and providing HIV prevention and care activities. Under this program, funded community-based organizations (CBOs) must address at least two social determinants of health within their safe spaces. CBOs will employ a community-driven approach and work with people who are at increased risk for HIV to select social determinants of health with the most potential to reduce barriers to accessing HIV prevention and care services and promote health equity.

The purpose of this data collection is to assess the implementation of safe spaces, participant perceptions about the role of space spaces in addressing social determinants of health and promoting HIV prevention and care, and the association between safe space implementation and HIV process and outcome indicators. The primary objectives of this data collection are to obtain data to: (a) describe the implementation of safe spaces; (b) to describe the impact on participants served; and (c) identify successful models for safe spaces to inform other CBOs and CDC.

By describing safe spaces and their impact on HIV-related outcomes, this data collection provides an important data source for evaluating a public health strategy aimed at reducing new infections, increasing HIV testing, and prioritizing populations at high risk for acquiring HIV.

The CDC requests approval for a two-year information collection. Data are collected through surveys with participants of the safe spaces and phone-based interviews conducted with safe space staff. Persons attending the safe spaces are young men who have sex with men and young transgender persons of Color over the age of 18. A brief eligibility screener will be used to determine eligibility for participation in the participant survey. No other federal agency systematically collects this type of information from persons attending safe spaces. These data may inform prevention program development and monitoring at both the local and national levels.

CDC estimates that this data collection will involve, eligibility screening for 1,250 persons, and a participant survey for 1,000 eligible respondents at 10 CBOs, annually. At each CBO, two staff members will be interviewed about their perceptions of safe spaces, totaling 20 staff interviews. CDC requests OMB approval for an estimated 369 annual burden hours. Participation of respondents is voluntary and there is no cost to the respondents other than their time.

Estimated Annualized Burden Hours
Type of respondents | Form name | Number of respondents | Number of responses per respondent | Average burden per response (in hours) | Total burden (in hours)
Persons Screened | Eligibility Screener | 1,250 | 1 | 5/60 | 104
Eligible Participants | Participant survey | 1,000 | 1 | 15/60 | 250
Community-based organization staff | Staff interview | 20 | 1 | 45/60 | 15
Total |  |  |  |  | 369

Jeffery M. Zirger,
Lead, Information Collection Review Office, Office of Scientific Integrity, Office of Science, Centers for Disease Control and Prevention.

[FR Doc. 2022-18583 Filed 8-29-22; 8:45 am]

BILLING CODE 4163-18-P